FEDERAL MINE SAFETY AND HEALTH REVIEW COMMISSION

Senior Executive Service; Performance Review Board

AGENCY: Federal Mine Safety and Health Review Commission.

ACTION: Notice.

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Effective on November 6, 2014.

FOR FURTHER INFORMATION CONTACT: Lisa Boyd, Executive Director, Federal Mine Safety and Health Review Commission, (202) 434-9910.

SUPPLEMENTARY INFORMATION: This Notice announces the appointment of the following primary and alternate members to the Federal Mine Safety and Health Review Commission PRB:

Primary Members

Cynthia Z. Springer, Deputy Commissioner, Accounting and Shared Services, Bureau of the Fiscal Service

Matthew J. Miller, Acting Assistant Commissioner, Governmentwide Accounting, Bureau of the Fiscal Service

D. Michael Linder, Deputy Assistant Commissioner, Fiscal Accounting, Bureau of the Fiscal Service

Douglas Anderson, Assistant Commissioner, Office of Shared Services, Bureau of the Fiscal Service

Donald Keith Rake, Deputy Assistant Commissioner, Office of Shared Services, Bureau of the Fiscal Service

Alternate Members

None.

Authority: 5 U.S.C. 4313(c)(4)

Lisa M. Boyd,
Executive Director, Federal Mine Safety and Health Review Commission.

[FR Doc. 2014-26416 Filed 11-5-14; 8:45 am]

BILLING CODE 6735-01-P